DEPARTMENT OF DEFENSE

Office of the Secretary

32 CFR Part 314

[Docket ID: DOD-2019-OS-0041]

RIN 0790-AK60

Defense Advanced Research Projects Agency, Privacy Act of 1974

AGENCY: Defense Advanced Research Projects Agency, Department of Defense (DoD).

ACTION: Final rule.

SUMMARY: This final rule removes DoD's regulation concerning the Defense Advanced Research Projects Agency (DARPA) Privacy Program. On April 11, 2019, the DoD published a revised DoD-level Privacy Program rule, which contains the necessary information for an agency-wide Privacy Program regulation under the Privacy Act and now serves as the single Privacy Program rule for the Department. That revised Privacy Program rule also includes all DoD component exemption rules. Therefore, this regulation is now unnecessary and may be removed from the CFR.

DATES: This rule is effective on October 25, 2019.

FOR FURTHER INFORMATION CONTACT: Brian Eshenbrenner at 703-526-6631.

SUPPLEMENTARY INFORMATION: DoD now has a single DoD-level Privacy Program rule at 32 CFR part 310 (84 FR 14728) that contains all the codified information required for the Department. The DARPA Privacy Act Program regulation at 32 CFR part 314, last updated on November 14, 1991 (56 FR 57802), is no longer required and can be removed.

It has been determined that publication of this CFR part removal for public comment is impracticable, unnecessary, and contrary to public interest because it is based on the removal of policies and procedures that are either now reflected in another CFR part, 32 CFR part 310, or are publically available on the Department's website. To the extent that DARPA internal guidance concerning the implementation of the Privacy Act within DARPA is necessary, it will continue to be published in DARPA Instruction 78, “Privacy and Civil Liberties,” and referenced under DARPA's respective Privacy and Civil Liberties Programs at https://www.darpa.mil.

This rule is one of 20 separate component Privacy rules. With the finalization of the DoD-level Privacy rule at 32 CFR part 310, the Department eliminated the need for this component Privacy rule, thereby reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs,” does not apply.

List of Subjects in 32 CFR Part 314

Privacy.

PART 314—[REMOVED]

Accordingly, by the authority of 5 U.S.C. 301, 32 CFR part 314 is removed.

Dated: October 22, 2019.
Shelly E. Finke,
Alternate OSD Federal Register Liaison Officer, Department of Defense.

[FR Doc. 2019-23311 Filed 10-24-19; 8:45 am]

BILLING CODE 5001-06-P